DEPARTMENT OF HOMELAND SECURITY

Citizenship and Immigration Services

Agency Information Collection Activities: Extension of Existing Collection; Comment Request

ACTION: Request OMB Emergency Approval; Petition for Nonimmigrant Worker; Form I-129

The Department of Homeland Security, Citizenship and Immigration Services (CIS) has submitted the following information collection request (ICR) utilizing emergency review procedures to the Office of Management and Budget (OMB) for review and clearance in accordance with section 1320.13(a)(1)(ii) and (1)(2)(iii) of the Paperwork Reduction Act of 1995. The DHS has determined that it cannot reasonably comply with the normal clearance procedures under this part because normal clearance procedures are reasonably likely to prevent or disrupt the collection of information. Emergency review and approval of this information collection will ensure that the collection may continue. Therefore, OMB approval has been requested by October 31, 2004.

If grant, the emergency approval is only valid for 90 days. ALL comments and/or questions pertaining to this pending request for emergency approval MUST be directed to OMB, Office of Information and Regulatory Affairs, Attention: Desk Officer, Department of Homeland Security, 725—17th Street, NW., Suite 10235, Washington, DC 20503, 202-395-5806.

During the first 60 days of this same period, a regular review of this information collection is also being undertaken. During the regular review period, the DHS requests written comments and suggestions from the public and affected agencies concerning this information collection. Comments are encouraged and will be accepted for sixty days until November 29, 2004. During the 60-day regular review. ALL comments and suggestions, or questions regarding additional information, as well as requests to obtain a copy of the information collection instrument with instructions, should be directed to Mr. Richard A. Sloan, 202-616-7600, Director, Regulatory Management Division, Citizenship and Immigration, U.S. Department of Homeland Security, 111 Massachusetts Avenue, NW., Washington, DC 20529. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a previously approved information collection.

(2) Title of the Form/Collection: Petition for Nonimmigrant Worker.

(3) Agency form number, if any, and the applicable component of the Department of Homeland Security sponsoring the collection: Form I-129, Citizenship and Immigration Services.

(4) Affected public who will be asked or required to respond, as well as brief abstract: Primary: Individuals or households. This form is used by an employer to petition for aliens to come to the U.S. temporarily to perform services, labor, training or to request extensions of stay or changes in nonimmigrant status for nonimmigrant workers.

(5) An estimate of the total number of respondents and the amount of time estimated for an average respondent to respond: 368,948 responses at 2.75 hours per response.

(6) An estimate of the total public burden (in hours) associated with the collection: 998,357 annual burden hours.

If you have additional comments, suggestions, or need a copy of the proposed information collection instrument with instructions, or additional information, please contact Richard A. Sloan, 202-616-7600, Director, Regulatory Management Division, U.S. Department of Homeland Security, 111 Massachusetts Avenue, NW., Washington, DC 20529. Additionally, comments and/or suggestions regarding the item(s) contained in this notice, especially regarding the estimated public burden and associated response time may also be directed to Mr. Richard A. Sloan.

Dated: September 24, 2004.
Richard A. Sloan,
Departmental Clearance Officer, U.S. Department of Homeland Security, Citizenship and Immigrant Services.

[FR Doc. 04-21792 Filed 9-28-04; 8:45 am]

BILLING CODE 4410-10-M